DEPARTMENT OF THE INTERIOR

Fish and Wildlife Service

[FWS-R1-ES-2018-N031; FXES11130100000C4-189-FF01E00000]

Endangered and Threatened Wildlife and Plants; Initiation of 5-Year Status Reviews for 156 Species in Oregon, Washington, Hawaii, Palau, Guam, and the Northern Mariana Islands

AGENCY: Fish and Wildlife Service, Interior.

ACTION: Notice of initiation of reviews; request for information.

SUMMARY: We, the U.S. Fish and Wildlife Service (Service), are initiating 5-year status reviews for 156 species in Oregon, Washington, Hawaii, Palau, Guam, and the Northern Mariana Islands under the Endangered Species Act of 1973, as amended (Act). A 5-year review is based on the best scientific and commercial data available at the time of the review; therefore, we are requesting submission of any new information on these species that has become available since the last review.

DATES: To ensure consideration in our reviews, we are requesting submission of new information no later than July 6, 2018. However, we will continue to accept new information about any species at any time.

ADDRESSES: Submit information on the Hutton tui chub and Nelson's checker-mallow (of Oregon and Washington) via U.S. mail to Field Supervisor, Attention: 5-Year Review, U.S. Fish and Wildlife Service, Oregon Fish and Wildlife Office, 2600 SE 98th Ave., Suite 100, Portland, OR 97266.

Submit information on any of the 154 species in Hawaii, Palau, Guam, or the Northern Mariana Islands via U.S. mail to Field Supervisor; Attention: 5-Year Review; U.S. Fish and Wildlife Service, Pacific Islands Fish and Wildlife Office, 300 Ala Moana Blvd., Room 3- 122 Honolulu, HI 96850; or by email to pifwo_admin@fws.gov.

FOR FURTHER INFORMATION CONTACT: For Hutton tui chub and Nelson's checker-mallow (of Oregon and Washington), contact Michele Zwartjes, U.S. Fish and Wildlife Service, Oregon Fish and Wildlife Office, at 503-231-6179.

For the 154 species in Hawaii, Palau, Guam, or the Northern Mariana Islands, contact Gregory Koob, U.S. Fish and Wildlife Service, Pacific Islands Fish and Wildlife Office, at 808-792-9400.

Individuals who are hearing impaired or speech impaired may call the Federal Relay Service at 800-877-8339 for TTY assistance.

SUPPLEMENTARY INFORMATION:

Why do we conduct 5-year reviews?

Under the Endangered Species Act of 1973, as amended (Act; 16 U.S.C. 1531 et seq.), we maintain lists of endangered and threatened wildlife and plant species (referred to as the List) in the Code of Federal Regulations (CFR) at 50 CFR 17.11 (for wildlife) and 17.12 (for plants). Section 4(c)(2) of the Act requires us to review each listed species' status at least once every 5 years. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for these species.

Which species are under review?

This notice announces our active review of the 156 species listed in the table below.

Common name | Scientific name | Status | Known range of species occurrence | Final listing rule and publication date
Animals
Mammals
Pacific sheath-tailed bat (Mariana subspecies) (Payeyi, Paischeey) | Emballonura semicaudata rotensis | Endangered | Guam, Northern Mariana Islands | 80 FR 59423, 10/1/2015.
Mariana fruit bat | Pteropus mariannus mariannus | Threatened | Guam, Northern Mariana Islands | 49 FR 33881, 8/27/1984; 70 FR 1190, 1/6/2005.
Little Mariana fruit bat | Pteropus tokudae | Endangered | Guam | 49 FR 33881, 8/27/1984.
Birds
Nightingale reed warbler | Acrocephalus luscinia | Endangered | Guam, Northern Mariana Islands | 35 FR 8491, 6/2/1970; 35 FR 18319, 12/2/1970.
Mariana gray swiftlet | Aerodramus vanikorensis bartschi | Endangered | Guam, Northern Mariana Islands, Hawaii | 49 FR 33881, 8/27/1984.
Hawaiian crow (Alala) | Corvus hawaiiensis | Endangered | Hawaii | 32 FR 4001, 3/11/1967.
Mariana crow (Aga) | Corvus kubaryi | Endangered | Guam, Northern Mariana Islands | 49 FR 33881, 8/27/1984.
Mariana common moorhen | Gallinula chloropus guami | Endangered | Guam, Northern Mariana Islands | 49 FR 33881, 8/27/1984.
Akiapolaau | Hemignathus wilsoni | Endangered | Hawaii | 32 FR 4001, 3/11/1967.
Palila | Loxioides bailleui | Endangered | Hawaii | 32 FR 4001, 3/11/1967.
Hawaii akepa | Loxops coccineus | Endangered | Hawaii | 35 FR 16047, 10/13/1970.
Micronesian megapode | Megapodius laperouse | Endangered | Guam, Northern Mariana Islands, Palau | 35 FR 8491, 6/2/1970.
Hawaii creeper | Oreomystis mana | Endangered | Hawaii | 40 FR 44149, 9/25/1975.
Guam rail | Rallus owstoni | Endangered | Guam | 49 FR 14354, 4/11/1984; 49 FR 33881, 8/27/1984; 54 FR 43966, 10/30/1989.
Guam kingfisher | Todiramphus cinnamominus | Endangered | Guam | 49 FR 33881, 8/27/1984; 69 FR 62943, 10/28/2004.
Bridled white-eye | Zosterops conspicillatus conspicillatus | Endangered | Guam | 49 FR 33881, 8/27/1984.
Rota bridled white-eye | Zosterops rotensis | Endangered | Northern Mariana Islands | 69 FR 3022, 1/22/2004.
Reptiles
Slevin's skink | Emoia slevini | Endangered | Guam, Northern Mariana Islands | 80 FR 59423, 10/1/2015.
Fishes
Hutton tui chub | Gila bicolor ssp. | Threatened | Oregon | 50 FR 12302, 3/28/1985.
Snails
Newcomb's tree snail | Newcombia cumingi | Endangered | Hawaii | 78 FR 32013, 5/28/2013.
Humped tree snail (Akaleha, Denden) | Partula gibba | Endangered | Guam, Northern Mariana Islands | 80 FR 59423, 10/1/2015.
Langford's tree snail (Akaleha, Denden) | Partula langfordi | Endangered | Northern Mariana Islands | 80 FR 59423, 10/1/2015.
Guam tree snail (Akaleha, Denden) | Partula radiolata | Endangered | Guam | 80 FR 59423, 10/1/2015.
Lanai tree snail | Partulina semicarinata | Endangered | Hawaii | 78 FR 32013, 5/28/2013.
Lanai tree snail | Partulina variabilis | Endangered | Hawaii | 78 FR 32013, 5/28/2013.
Fragile tree snail (Akaleha dogas, Denden) | Samoana fragilis | Endangered | Guam, Northern Mariana Islands | 80 FR 59423, 10/1/2015.
Crustaceans
Anchialine pool shrimp | Procaris hawaiana | Endangered | Hawaii | 81 FR 67786, 9/30/2016.
Anchialine pool shrimp | Vetericaris chaceorum | Endangered | Hawaii | 78 FR 64637, 10/29/2013.
Insects
Hawaiian picture-wing fly | Drosophila digressa | Endangered | Hawaii | 78 FR 64637, 10/29/2013.
Hawaiian picture-wing fly | Drosophila heteroneura | Endangered | Hawaii | 71 FR 26835, 5/9/2006.
Hawaiian picture-wing fly | Drosophila mulli | Threatened | Hawaii | 71 FR 26835, 5/9/2006.
Hawaiian picture-wing fly | Drosophila ochrobasis | Endangered | Hawaii | 71 FR 26835, 5/9/2006.
Rota blue damselfly (Dulalas Luta, Dulalas Luuta) | Ischnura luta | Endangered | Northern Mariana Islands | 80 FR 59423, 10/1/2015.
Mariana wandering butterfly (Ababbang, Libweibwogh) | Vagrans egistina | Endangered | Guam, Northern Mariana Islands | 80 FR 59423, 10/1/2015.
Plants
Flowering Plants
Liliwai | Acaena exigua | Endangered | Hawaii | 57 FR 20772, 5/15/1992.
No common name | Achyranthes mutica | Endangered | Hawaii | 61 FR 53108, 10/10/1996.
Round-leaved chaff-flower | Achyranthes splendens var. rotundata | Endangered | Hawaii | 51 FR 10518, 3/26/1986.
Mauna Loa silversword (Kau) | Argyroxiphium kauense | Endangered | Hawaii | 58 FR 18029, 4/7/1993.
Ahinahina | Argyroxiphium sandwicense ssp. sandwicense | Endangered | Hawaii | 51 FR 9814, 3/1/1986.
Kookoolau | Bidens campylotheca pentamera | Endangered | Hawaii | 78 FR 32013, 5/28/2013.
Kookoolau | Bidens campylotheca waihoiensis | Endangered | Hawaii | 8 FR 32013, 5/28/2013.
Kookoolau | Bidens conjuncta | Endangered | Hawaii | 78 FR 32013, 5/28/2013.
No common name | Bidens hillebrandiana ssp. hillebrandiana | Endangered | Hawaii | 78 FR 32013, 5/28/2013.
Kookoolau | Bidens micrantha ctenophylla | Endangered | Hawaii | 8 FR 64637, 10/29/2013.
Siboyas halumtanu, Siboyan halom tano | Bulbophyllum guamense | Threatened | Guam, Northern Mariana Islands | 80 FR 59423, 10/1/2015.
Oha wai | Clermontia drepanomorpha | Endangered | Hawaii | 61 FR 53137, 10/10/1996.
Oha wai | Clermontia lindseyana | Endangered | Hawaii | 59 FR 10305, 3/4/1994.
Oha wai | Clermontia peleana | Endangered | Hawaii | 59 FR 10305, 3/4/1994.
Oha wai | Clermontia pyrularia | Endangered | Hawaii | 9 FR 10305, 3/4/1994.
Haha | Cyanea asplenifolia | Endangered | Hawaii | 78 FR 32013, 5/28/2013.
Haha | Cyanea copelandii ssp. copelandii | Endangered | Hawaii | 59 FR 10305, 3/4/1994.
Haha | Cyanea duvalliorum | Endangered | Hawaii | 78 FR 32013, 5/28/2013.
Haha | Cyanea hamatiflora ssp. carlsonii | Endangered | Hawaii | 59 FR 10305, 3/4/1994.
Nui, Haha | Cyanea horrida | Endangered | Hawaii | 78 FR 32013, 5/28/2013.
Haha | Cyanea kunthiana | Endangered | Hawaii | 78 FR 32013, 5/28/2013.
Haha | Cyanea maritae | Endangered | Hawaii | 78 FR 32013, 5/28/2013.
Haha | Cyanea marksii | Endangered | Hawaii | 78 FR 64637, 10/29/2013.
Haha | Cyanea mauiensis | Endangered | Hawaii | 78 FR 32013, 5/28/2013.
Haha | Cyanea munroi | Endangered | Hawaii | 78 FR 32013, 5/28/2013.
Haha | Cyanea obtusa | Endangered | Hawaii | 78 FR 32013, 5/28/2013.
Akuaku | Cyanea platyphylla | Endangered | Hawaii | 61 FR 53137, 10/10/1996.
No common name | Cyanea profuga | Endangered | Hawaii | 78 FR 32013, 5/28/2013.
Haha | Cyanea shipmanii | Endangered | Hawaii | 59 FR 10305, 3/4/1994.
Popolo | Cyanea solanacea | Endangered | Hawaii | 78 FR 32013, 5/28/2013.
Haha | Cyanea stictophylla | Endangered | Hawaii | 59 FR 10305, 3/4/1994.
Haha | Cyanea tritomantha | Endangered | Hawaii | 78 FR 64637, 10/29/2013.
Fadang | Cycas micronesica | Threatened | Guam, Northern Mariana Islands | 80 FR 59423, 10/1/2015.
No common name | Cyperus fauriei | Endangered | Hawaii | 59 FR 10305, 3/4/1994.
Puukaa | Cyperus trachysanthos | Endangered | Hawaii | 61 FR 53108, 10/10/1996.
Haiwale | Cyrtandra ferripilosa | Endangered | Hawaii | 78 FR 32013, 5/28/2013.
Haiwale | Cyrtandra filipes | Endangered | Hawaii | 78 FR 32013, 5/28/2013.
Haiwale | Cyrtandra giffardii | Endangered | Hawaii | 59 FR 10305, 3/4/1994.
No common name | Cyrtandra nanawaleensis | Endangered | Hawaii | 59 FR 10305, 3/4/1994.
Haiwale | Cyrtandra oxybapha | Endangered | Hawaii | 78 FR 32013, 5/28/2013.
Haiwale | Cyrtandra tintinnabula | Endangered | Hawaii | 59 FR 10305, 3/4/1994.
No common name | Cyrtandra wagneri | Endangered | Hawaii | 78 FR 64637, 10/29/2013.
No common name | Delissea undulata | Endangered | Hawaii | 61 FR 53124, 10/10/1996.
No common name | Dendrobium guamense | Threatened | Guam, Northern Mariana Islands | 80 FR 59423, 10/1/2015.
No common name | Eugenia bryanii | Endangered | Guam | 80 FR 59423, 10/1/2015.
No common name | Festuca molokaiensis | Endangered | Hawaii | 78 FR 32013, 5/28/2013.
Nohoanu | Geranium hanaense | Endangered | Hawaii | 78 FR 32013, 5/28/2013.
Nohoanu | Geranium hillebrandii | Endangered | Hawaii | 78 FR 32013, 5/28/2013.
No common name | Gouania vitifolia | Endangered | Hawaii | 59 FR 32932, 6/27/1994.
Honohono | Haplostachys haplostachya | Endangered | Hawaii | 44 FR 62468, 10/30/1979.
Paudedo | Hedyotis megalantha | Endangered | Guam | 80 FR 59423, 10/1/2015.
Ufa-halomtano | Heritiera longipetiolata | Endangered | Guam, Northern Mariana Islands | 80 FR 59423, 10/1/2015.
No common name | Hesperomannia arbuscula | Endangered | Hawaii | 56 FR 55770, 10/29/1991.
Hau kuahiwi | Hibiscadelphus giffardianus | Endangered | Hawaii | 61 FR 53137, 10/10/1996.
Hau kuahiwi | Hibiscadelphus hualalaiensis | Endangered | Hawaii | 61 FR 53137, 10/10/1996.
Aupaka | Isodendrion hosakae | Endangered | Hawaii | 56 FR 1454, 1/14/1991.
Kioele | Kadua coriacea | Endangered | Hawaii | 57 FR 20772, 5/15/1992.
Kohe malama malama o kanaloa | Kanaloa kahoolawensis | Endangered | Hawaii | 64 FR 48307, 9/3/1999.
Koki`o | Kokia drynarioides | Endangered | Hawaii | 49 FR 47397, 12/4/1984.
No common name | Lepidium orbiculare | Endangered | Hawaii | 81 FR 67786, 9/30/2016.
No common name | Lipochaeta venosa | Endangered | Hawaii | 44 FR 62468, 10/30/1979.
No common name | Maesa walkeri | Threatened | Guam, Northern Mariana Islands | 80 FR 59423, 10/1/2015.
Alani | Melicope zahlbruckneri | Endangered | Hawaii | 61 FR 53137, 10/10/1996.
Sea bean | Mucuna sloanei var. persericea | Endangered | Hawaii | 78 FR 32013, 5/28/2013.
Kolea | Myrsine vaccinioides | Endangered | Hawaii | 78 FR 32013, 5/28/2013.
No common name | Neraudia ovata | Endangered | Hawaii | 61 FR 53137, 10/10/1996.
No common name | Nervilia jacksoniae | Threatened | Guam, Northern Mariana Islands | 80 FR 59423, 10/1/2015.
No common name | Nesogenes rotensis | Endangered | Northern Mariana Islands | 69 FR 18499; 04/08/2004.
Aiea | Nothocestrum breviflorum | Endangered | Hawaii | 59 FR 10305, 3/4/1994.
Kului | Nototrichium humile | Endangered | Hawaii | 56 FR 55770, 10/29/1991.
No common name | Osmoxylon mariannense | Endangered | Northern Mariana Islands | 69 FR 18499; 04/08/2004.
Ala ala wai nui | Peperomia subpetiolata | Endangered | Hawaii | 78 FR 32013, 5/28/2013.
No common name | Phyllanthus saffordii | Endangered | Guam | 80 FR 59423, 10/1/2015.
No common name | Phyllostegia bracteata | Endangered | Hawaii | 78 FR 32013, 5/28/2013.
No common name | Phyllostegia floribunda | Endangered | Hawaii | 78 FR 64637, 10/29/2013.
No common name | Phyllostegia haliakalae | Endangered | Hawaii | 78 FR 32013, 5/28/2013.
No common name | Phyllostegia helleri | Endangered | Hawaii | 81 FR 67786, 9/30/2016.
No common name | Phyllostegia pilosa | Endangered | Hawaii | 78 FR 32013, 5/28/2013.
Kiponapona | Phyllostegia racemosa | Endangered | Hawaii | 61 FR 53137, 10/10/1996.
No common name | Phyllostegia stachyoides | Endangered | Hawaii | 81 FR 67786, 9/30/2016.
No common name | Phyllostegia velutina | Endangered | Hawaii | 61 FR 53137, 10/10/1996.
No common name | Phyllostegia warshaueri | Endangered | Hawaii | 61 FR 53137, 10/10/1996.
No common name | Pittosporum halophilum | Endangered | Hawaii | 78 FR 32013, 5/28/2013.
No common name | Pittosporum hawaiiense | Endangered | Hawaii | 78 FR 64637, 10/29/2013.
Kuahiwi laukahi | Plantago hawaiensis | Endangered | Hawaii | 59 FR 10305, 3/4/1994.
No common name | Platydesma remyi | Endangered | Hawaii | 78 FR 64637, 10/29/2013.
Hala pepe | Pleomele fernaldii | Endangered | Hawaii | 78 FR 32013, 5/28/2013.
Hala pepe | Pleomele hawaiiensis | Endangered | Hawaii | 61 FR 53137, 10/10/1996.
Poe | Portulaca sclerocarpa | Endangered | Hawaii | 59 FR 10305, 3/4/1994.
Loulu | Pritchardia lanigera | Endangered | Hawaii | 78 FR 64637, 10/29/2013.
Loulu | Pritchardia maideniana | Endangered | Hawaii | 59 FR 10305, 3/4/1994.
Loulu | Pritchardia schattaueri | Endangered | Hawaii | 61 FR 53137, 10/10/1996.
Aplokating-palaoan | Psychotria malaspinae | Endangered | Guam | 80 FR 59423, 10/1/2015.
No common name | Schiedea diffusa ssp. macraei | Endangered | Hawaii | 78 FR 64637, 10/29/2013.
Maolioli | Schiedea hawaiiensis | Endangered | Hawaii | 78 FR 64637, 10/29/2013.
No common name | Schiedea jacobii | Endangered | Hawaii | 78 FR 32013, 5/28/2013.
No common name | Schiedea laui | Endangered | Hawaii | 78 FR 32013, 5/28/2013.
No common name | Schiedea nuttallii | Endangered | Hawaii | 61 FR 53108, 10/10/1996.
No common name | Schiedea salicaria | Endangered | Hawaii | 78 FR 32013, 5/28/2013.
Hayun lagu, Tronkon guafi | Serianthes nelsonii | Endangered | Guam, Northern Mariana Islands | 52 FR 4907; 02/18/1997.
Anunu | Sicyos albus | Endangered | Hawaii | 61 FR 53137, 10/10/1996.
Nelson's checker-mallow | Sidalcea nelsoniana | Threatened | Oregon, Washington | 58 FR 8235, 2/12/1993.
No common name | Silene hawaiiensis | Threatened | Hawaii | 59 FR 10305, 3/4/1994.
Halomtano, Berenghenas | Solanum guamense | Endangered | Guam, Northern Mariana Islands | 80 FR 59423, 10/1/2015.
Popolo ku mai | Solanum incompletum | Endangered | Hawaii | 59 FR 56333, 10/10/1994.
No common name | Stenogyne angustifolia var. angustifolia | Endangered | Hawaii | 44 FR 62468, 10/30/1979.
No common name | Stenogyne cranwelliae | Endangered | Hawaii | 78 FR 64637, 10/29/2013.
No common name | Stenogyne kaalae ssp. sherffii | Endangered | Hawaii | 81 FR 67786, 9/30/2016.
No common name | Stenogyne kauaulaensis | Endangered | Hawaii | 78 FR 32013, 5/28/2013.
No common name | Tabernaemontana rotensis | Threatened | Guam, Northern Mariana Islands | 80 FR 59423, 10/1/2015.
No common name | Tetramolopium arenarium | Endangered | Hawaii | 59 FR 10305, 3/4/1994.
No common name | Tetramolopium lepidotum ssp. lepidotum | Endangered | Hawaii | 56 FR 55770, 10/29/1991.
No common name | Tinospora homosepala | Endangered | Guam | 80 FR 59423, 10/1/2015.
No common name | Tuberolabium guamense | Threatened | Guam, Northern Mariana Islands | 80 FR 59423, 10/1/2015.
Hawaiian vetch | Vicia menziesii | Endangered | Hawaii | 43 FR 17910, 4/26/1978.
No common name | Vigna o-wahuensis | Endangered | Hawaii | 59 FR 56333, 11/10/1994.
No common name | Wikstroemia skottsbergiana | Endangered | Hawaii | 81 FR 67786, 9/30/2016.
No common name | Wikstroemia villosa | Endangered | Hawaii | 78 FR 32013, 5/28/2013.
Ae | Zanthoxylum dipetalum var. tomentosum | Endangered | Hawaii | 61 FR 53137, 10/10/1996.
Ferns and Allies
No common name | Asplenium peruvianum var. insulare | Endangered | Hawaii | 59 FR 49025, 9/26/1994.
No common name | Diplazium molokaiense | Endangered | Hawaii | 59 FR 49025, 9/26/1994.
Wawaeiole | Huperzia mannii | Endangered | Hawaii | 57 FR 20772, 5/15/1992.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

If you wish to provide information for any species listed in the table, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices to which the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Theresa E. Rabot,
Acting Regional Director, Pacific Region, U.S. Fish and Wildlife Service.

[FR Doc. 2018-09603 Filed 5-4-18; 8:45 am]

BILLING CODE 4333-15-P